DEPARTMENT OF AGRICULTURE

Rural Business—Cooperative Service

Inviting Applications for Small Socially-Disadvantaged Producer Grants

AGENCY: Rural Business—Cooperative Service, USDA.

ACTION: Notice.

SUMMARY: The Rural Business—Cooperative Service announces the availability of $2,855,222 in competitive grant funds for the FY 2013 Small Socially-Disadvantaged Producer Grants (SSDPG) program as authorized by H.R. 933. We are requesting proposals from applicants that will provide technical assistance to small, socially-disadvantaged agricultural producers in rural areas. Eligible applicants include Cooperatives, Groups of Cooperatives, and Cooperative Development Centers. The maximum award per grant is $200,000. The grant period is limited to a one-year timeframe.

DATES: Completed applications for grants must be submitted on paper or electronically according to the following deadlines:

Paper copies must be postmarked and mailed, shipped, or sent overnight no later than July 15, 2013, to be eligible for FY 2013 grant funding. You may also hand carry your application to one of our field offices, but it must be received by close of business on the July 15, 2013, deadline date. Late applications will not be eligible for FY 2013 grant funding.

Electronic copies must be received by http://www.grants.gov no later than midnight eastern time July 10, 2013, to be eligible for FY 2013 grant funding. Please review the Grants.gov Web site at http://grants.gov/applicants/organization_registration.jsp for instructions on the process of registering your organization as soon as possible to ensure you are able to meet the electronic application deadline.

If you do not meet the deadline for submitting an electronic application, you may hand carry or submit a paper application by the July 15, 2013, deadline as discussed above. Late applications will not be eligible for FY 2013 grant funding.

ADDRESSES: You should contact the USDA Rural Development State Office (State Office) located in the State where you are headquartered if you have questions. You are encouraged to contact your State Office well in advance of the application deadline to discuss your project and ask any questions about the application process. Program guidance as well as application templates may be obtained at http://www.rurdev.usda.gov/BCP_SSDPG.html. If you want to submit an electronic application, follow the instructions for the SSDPG funding announcement located at http://www.grants.gov. If you want to submit a paper application, send it to the State Office located in the State where you are headquartered. If you are headquartered in Washington, DC, please contact the Office of the Deputy Administrator, Cooperative Programs, Rural Business—Cooperative Service, at (202) 720-7558 for guidance on where to submit your application.

Application materials for the SSDPG program may be obtained at http://www.rurdev.usda.gov/BCP_SSDPG.html or by contacting your USDA Rural Development State Office. Contact information for State Offices can be found at http://www.rurdev.usda.gov/recd_map.html.

FOR FURTHER INFORMATION CONTACT: Office of the Deputy Administrator, Cooperative Programs, Rural Business—Cooperative Service, United States Department of Agriculture, 1400 Independence Avenue SW., Mail Stop-3250, Room 4016-South, Washington, DC 20250-3250, (202) 720-7558.

SUPPLEMENTARY INFORMATION:

Overview

Federal Agency Name: USDA Rural Business Cooperative Service.

Funding Opportunity Title: Small, Socially-Disadvantaged Producer Grant.

Announcement Type: Initial funding request.

Catalog of Federal Domestic Assistance Number: 10.771.

Dates: Application Deadline. You must submit your complete application by July 15, 2013, or it will not be considered for FY 2013 grant funding. Electronic applications must be received by http://www.grants.gov no later than midnight Eastern Time July 10, 2013, or it will not be considered for FY 2013 grant funding.

I. Funding Opportunity Description

The SSDPG Program is authorized by 310B(e) of the Consolidated Farm and Rural Development Act (7 U.S.C. 1932). The primary objective of the SSDPG program is to provide Technical Assistance to Small, Socially-Disadvantaged Agricultural Producers. Grants are awarded on a competitive basis. The maximum award amount per grant is $200,000. Grants are available for Cooperative Development Centers, individual Cooperatives, or Groups of Cooperatives that serve socially-disadvantaged groups and where a majority of the boards or directors or governing board is comprised of members of socially-disadvantaged groups.

Definitions

Agency—Rural Business—Cooperative Service, an agency of the United States Department of Agriculture (USDA) Rural Development or a successor agency.

Agricultural Commodity—An unprocessed product of farms, ranches, nurseries, and forests. Agricultural commodities include: livestock, poultry, and fish; fruits and vegetables; grains, such as wheat, barley, oats, rye, triticale, rice, corn, and sorghum; legumes, such as field beans and peas; animal feed and forage crops; seed crops; fiber crops, such as cotton; oil crops, such as safflower, sunflower, corn, and cottonseed; trees grown for lumber and wood products; nursery stock grown commercially; Christmas trees; ornamentals and cut flowers; and turf grown commercially for sod. Agricultural commodities do not include horses or animals raised as pets, such as cats, dogs, and ferrets.

Conflict of Interest—A situation in which the ability of a person or entity to act impartially would be questionable due to competing professional or personal interests. An example of conflict of interest occurs when the grantee's employees, board of directors, including their immediate family, have a legal or personal financial interest in the recipients receiving the benefits or services of the grant. Another example of conflict of interest includes paying Small Socially-Disadvantaged Producers to provide Technical Assistance to other Small Socially-Disadvantaged Producers.

Cooperative—A farmer- or rancher-owned and -controlled business, organized and chartered as a cooperative, from which benefits are derived and distributed equitably on the basis of use by each of the farmer or rancher owners whose primary focus is to provide assistance to Small, Socially-Disadvantaged Agricultural Producers and where a majority of the board of directors or governing board is comprised of individuals who are members of socially-disadvantaged groups.

Cooperative Development Center—A nonprofit corporation or accredited institution of higher education that is currently being operated by the grantee for rural cooperative development and where a majority of the board of directors or governing board is comprised of individuals who are members of socially-disadvantaged groups. It may or may not be an independent legal entity separate from the grantee. The Center's main objective is to assist Cooperatives with their startup, expansion or operational improvement in order to promote development in rural areas of services and products, processes that can be used in the marketing of products, or enterprises that create Value-Added to farm products through processing or marketing activities. Cooperative development activities may include, but are not limited to, Technical Assistance, research services, educational services and advisory services. Operational improvement includes making the Cooperative more efficient or better managed.

Cooperative Services—The office within Rural Business-Cooperative Service, and any successor organization, that administers programs authorized by the Cooperative Marketing Act of 1926 (7 U.S.C. 451 et seq.) and such other programs identified in USDA regulations.

Economic Development—The economic growth of an area as evidenced by increase in total income, employment opportunities, decreased out-migration of population, value of production, increased diversification of industry, higher labor force participation rates, increased duration of employment, higher wage levels, or gains in other measurements of economic activity, such as land values.

Feasibility Study—An analysis of the economic, market, technical, financial, and management feasibility of a proposed Project.

Group of Cooperatives—A group of Cooperatives whose primary focus is to provide assistance to Small, Socially-Disadvantaged Agricultural Producers and where a majority of the board of directors or governing board is comprised of individuals who are members of socially-disadvantaged groups.

Operating Cost—The day-to-day expenses of running a business; for example: utilities, rent, salaries, depreciation, product production costs, marketing and advertising, and other basic overhead items.

Project—Includes all activities to be funded by the Small Socially-Disadvantaged Producer Grant.

Rural and Rural Area—Any area of a State:

(1) Not in a city or town that has a population of more than 50,000 inhabitants, according to the latest decennial census of the United States; and

(2) The contiguous and adjacent urbanized area,

(3) Urbanized areas that are rural in character as defined by 7 U.S.C. 1991(a)(13), as amended by Section 6018 of the Food, Conservation, and Energy Act of 2008, Public Law 110-246 (June 18, 2008).

(4) For the purposes of this definition, cities and towns are incorporated population centers with definite boundaries, local self-government, and legal powers set forth in a charter granted by the State. Notwithstanding any other provision of this paragraph, within the areas of the County of Honolulu, Hawaii, and the Commonwealth of Puerto Rico, the Secretary may designate any part of the areas as a rural area if the Secretary determines that the part is not urban in character, other than any area included in the Honolulu census designated place (CDP) or the San Juan CDP.

Rural Development—A mission area within USDA consisting of the Office of Under Secretary for Rural Development, Rural Business-Cooperative Services, Rural Housing Service, and Rural Utilities Service and any successors.

Small, Socially-Disadvantaged Producer—Socially-Disadvantaged persons including farmers, ranchers, loggers, agricultural harvesters, and fishermen, that have averaged $250,000 or less in annual gross sales of agricultural products in the last 3 years.

Socially-Disadvantaged Producer—Individual agricultural producer who is a member of a group whose members have been subjected to racial, ethnic or gender prejudice, without regard for their individual qualities.

State—Includes each of the 50 states, the Commonwealth of Puerto Rico, the Virgin Islands of the United States, Guam, American Samoa, the Commonwealth of the Northern Mariana Islands, and, as may be determined by the Secretary to be feasible, appropriate and lawful, the Federated States of Micronesia, the Republic of the Marshall Islands and the Republic of Palau.

Technical Assistance—An advisory service performed for the benefit of a Small, Socially-Disadvantaged Producer such as market research; product and/or service improvement; legal advice and assistance; Feasibility Study, business plan, and marketing plan development; and training. Technical Assistance does not include the Operating Costs of a cooperative being assisted.

Value-Added—The incremental value that is realized by the producer from an agricultural commodity or product as the result of a change in its physical state, differentiated production or marketing, as demonstrated in a business plan, or product segregation. Incremental value may be realized by the producer as a result of either an increase in value to buyers or the expansion of the overall market for the product. Examples include milling wheat into flour, slaughtering livestock or poultry, making strawberries into jam, and marketing of organic products.

II. Award Information

Type of Award: Grant.

Fiscal Year Funds: FY 2013.

Total Funding: $2,855,222.

Maximum Award: $200,000.

Project Period: 1 year.

Anticipated Award Date: September 1, 2013.

III. Eligibility Information

A. Eligible Applicants. Grants may be made to Cooperatives, Groups of Cooperatives, and Cooperative Development Centers where a majority of the board of directors or governing board is comprised of individuals who are members of socially-disadvantaged groups. You must be able to verify your legal structure in the State in which you are incorporated. Grants may not be made to public bodies or to individuals.

An applicant must obtain a Dun and Bradstreet Data Universal Numbering System (DUNS) number and register in the System for Awards Management (SAM, formally managed by the Central Contractor Registry (CCR)) prior to submitting an application. (See 2 CFR 25.200(b)). An applicant must provide their DUNS number in the application. In addition, an applicant must maintain its registration in SAM during the time its application is active. Finally, an applicant must have the necessary processes and systems in place to comply with the reporting requirements in 2 CFR 170.200(b), as long as it is not exempted from reporting. Exemptions are identified at 2 CFR 170.110(b).

B. Cost Sharing or Matching. No matching funds are required.

C. Other Eligibility Requirements

Use of Funds: Funds may only be used for Technical Assistance Projects as defined in this Notice.

Project Area Eligibility: The proposed Project must take place in a Rural Area as defined in this Notice.

Grant Period Eligibility: If awarded, grant funds must be used within 12 months. Applications must have a time frame of one year or less. Your proposed time frame should begin no earlier than the grant award date and end no later than December 31, 2014. However, you should note that the anticipated award date is September 1, so your proposed start date should be after September 1, 2013. Projects must be completed within the 12-month time frame. The Agency may approve requests to extend the grant period for up to an additional 12 months at its discretion. Further guidance on grant period extensions will be provided in the award document. Applications that request funds for a time period ending after December 31, 2014, will not be considered for funding.

If you have an existing SSDPG award, you must be performing satisfactorily to be considered eligible for a new award. Satisfactory performance includes being up-to-date on all financial and performance reports and being current on all tasks as approved in the work plan. The Agency will use its discretion to make this determination.

Completeness Eligibility: Your application must provide all of the information requested in Section IV(C) of this Notice. Applications lacking sufficient information to determine eligibility and scoring will be considered ineligible.

Multiple Grant Eligibility: You may only submit one SSDPG grant application each funding cycle.

Activity Eligibility: Your application must propose Technical Assistance that will benefit Small Socially-Disadvantaged Producers in Rural Areas. Please review section IV(H) of this Notice, “Funding Restrictions,” carefully.

IV. Application and Submission Information

A. Address To Request Application Package

The application package for applying on paper for this funding opportunity is located at http://www.rurdev.usda.gov/BCP_SSDPG.html. You may also contact your USDA Rural Development State Office for more information. Contact information for State Offices is located at http://www.rurdev.usda.gov/recd_map.html.

B. Form of Submission

• You may submit your application in paper form or electronically. If you submit in paper form, any forms requiring signatures must include an original signature. To submit an application electronically, you must use the Grants.gov Web site at http://www.grants.gov. You may not submit an application electronically in any way other than through Grants.gov.

• When you enter the Grants.gov Web site, you will find information about submitting an application electronically through the site, as well as the hours of operation.

• To use Grants.gov, you must have a DUNS number, which can be obtained at no cost via a toll-free request line at (866) 705-5711. Please note that obtaining the DUNS number is required prior to submitting an application. You must also maintain registration in SAM (formerly the CCR database). (See 2 CFR part 25.) You may register for SAM at https://www.sam.gov/portal/public/SAM/. You must submit all of your application documents electronically through Grants.gov.

• After electronically submitting an application through Grants.gov, you will receive an automatic acknowledgement from Grants.gov that contains a Grants.gov tracking number.

• You may be required to provide original signatures on forms at a later date.

• You can locate the Grants.gov downloadable application package for this program by using a keyword, the program name, the Catalog of Federal Domestic Assistance Number, or the Funding Opportunity Number.

C. Application Content

Your application must contain the following required forms and proposal elements:

1. Form SF-424, “Application for Federal Assistance,” must be completed, signed, and include a DUNS number. Since there are no specific fields for a Commercial and Government Entity (CAGE) code and expiration date, you may identify them anywhere you want to on the SF 424. If you do not include the CAGE code and expiration date and the DUNS number in your application, it will not be considered for funding.

2. Form SF-424A, “Budget Information-Non-Construction Programs.” This form must be completed and submitted as part of the application package.

3. Form SF-424B, “Assurances—Non-Construction Programs.” This form must be completed, signed, and submitted as part of the application package.

4. You must complete Form AD-3030, “Representations Regarding Felony Conviction and Tax Delinquent Status for Corporate Applicants,” if you are a corporation. A corporation is any entity that has filed articles of incorporation in one of the 50 States, the District of Columbia, or the various territories of the United States including American Samoa, Federated States of Micronesia, Guam, Midway Islands, Northern Mariana Islands, Puerto Rico, Republic of Palau, Republic of the Marshall Islands, or the U.S. Virgin Islands. Corporations include both for profit and non-profit entities.

5. Table of Contents. Your application must contain a detailed Table of Contents (TOC) immediately following the SF-424B. The TOC must include page numbers for each part of the application. Page numbers should begin immediately following the TOC.

6. Executive Summary. A summary of the proposal, not to exceed one page, must briefly describe the Project, tasks to be completed, and other relevant information that provides a general overview of the Project.

7. Eligibility Discussion. A detailed discussion, not to exceed four pages, must describe how you meet the following requirements:

(i) Applicant Eligibility. You must describe how you meet the definition of a Cooperative, Group of Cooperatives, or Cooperative Development Center. Your application must show that a majority of the board of directors or governing board is comprised of individuals who are members of socially-disadvantaged groups. If applying as a Cooperative or a Group of Cooperatives, you must verify your incorporation and status in the State that you have applied by providing the State's Certificate of Good Standing, your Articles of Incorporation, and By-Laws. If you are a nonprofit corporation applying as a Cooperative Development Center, you must provide evidence of your status as a nonprofit corporation in good standing, your Articles of Incorporation and a copy of your mission statement. If you are an institution of higher education applying as a Cooperative Development Center, you must provide evidence of your status as an accredited institution of higher education and a copy of your mission statement. You must apply as only one type of applicant. If the requested verification documents are not included, your application will not be considered for funding.

(ii) Use of Funds. You must provide a detailed discussion on how the proposed Project activities meet the definition of Technical Assistance and identify the group(s) of socially-disadvantaged producers that will be assisted.

(iii) Project Area. You must provide specific information that details the location of the Project area and explain how the area meets the definition of “Rural Area.”

(iv) Grant Period. You must provide a time frame for the proposed Project and discuss how the Project will be completed within that time frame.

8. Budget/Work plan. You must describe, in detail not to exceed four pages, the purpose of the grant, what type of assistance will be provided, and the total amount of funds needed for the Project. The budget must also present a breakdown of estimated costs associated with each task/activity for each Project. The amount of grant funds requested will be reduced if the applicant does not have justification for all costs. You must discuss at a minimum:

a. Specific tasks to be completed using grant funds;

b. How socially-disadvantaged producers will be identified;

c. Key personnel;

d. The evaluation methods to be used to determine the success of specific tasks and overall Project objectives.

The budget must present a breakdown of the estimated costs associated with Project activities and allocate these costs to each of the tasks to be undertaken.

9. Evaluation Criteria. Each of the evaluation criteria in this Notice must be addressed in narrative form, with a maximum of two pages for each individual evaluation criteria. Failure to address each evaluation criteria will result in the application being determined ineligible.

D. Submission Dates and Times

Application Deadline Date: July 15, 2013, for paper applications. July 10, 2013, for electronic applications.

Explanation of Deadlines: Paper applications must be postmarked and mailed, shipped, or sent overnight by the deadline date. Electronic applications must be received by http://www.grants.gov by the deadline date. If your application does not meet the deadline, it will not be considered for funding. You will be notified if your application did not meet the submission deadline.

E. National Environmental Policy Act

We have determined that the activities proposed under the SSDPG program do not have a significant effect on the quality of the environment. You do NOT have to submit an Environmental Impact Statement. See 7 CFR part 1940, subpart G.

F. Civil Rights Compliance Requirements

All grants made under this Notice are subject to Title VI of the Civil Rights Act of 1964 as required by the USDA (7 CFR part 15, subpart A) and Section 504 of the Rehabilitation Act of 1973.

G. Intergovernmental Review of Applications

Executive Order (EO) 12372, Intergovernmental Review of Federal Programs, applies to this program. This EO requires that Federal agencies provide opportunities for consultation on proposed assistance with State and local governments. Many States have established a Single Point of Contact (SPOC) to facilitate this consultation. A list of States that maintain a SPOC may be obtained at http://www.whitehouse.gov/omb/grants_spoc. If your State has a SPOC, you may submit your application directly for review. Any comments obtained through the SPOC must be provided to Rural Development for consideration as part of your application. If your State has not established a SPOC or you do not want to submit your application to the SPOC, Rural Development will submit your application to the SPOC or other appropriate agency or agencies.

You are also encouraged to contact Cooperative Programs at 202-720-8460 or cpgrants@wdc.usda.gov if you have questions about this process.

H. Funding Restrictions

Grant funds must be used for Technical Assistance. No funds made available under this solicitation shall be used to:

1. Plan, repair, rehabilitate, acquire, or construct a building or facility, including a processing facility;

2. Purchase, rent, or install fixed equipment, including processing equipment;

3. Purchase vehicles, including boats;

4. Pay for the preparation of the grant application;

5. Pay expenses not directly related to the funded Project;

6. Fund political or lobbying activities;

7. Fund any activities prohibited by 7 CFR parts 3015 or 3019;

8. Fund architectural or engineering design work for a specific physical facility;

9. Fund any direct expenses for the production of any commodity or product to which value will be added, including seed, rootstock, labor for harvesting the crop, and delivery of the commodity to a processing facility;

10. Fund research and development;

11. Purchase land;

12. Duplicate current activities or activities paid for by other funded grant programs.

13. Pay costs of the Project incurred prior to the date of grant approval;

14. Pay for assistance to any private business enterprise that does not have at least 51 percent ownership by those who are either citizens of the United States or reside in the United States after being legally admitted for permanent residence;

15. Pay any judgment or debt owed to the United States;

16. Pay the Operating Costs of the Cooperative, Group of Cooperatives, or Cooperative Development Center;

17. Pay expenses for applicant employee training; or

18. Pay for any goods or services from a person who has a Conflict of Interest with the grantee.

In addition, your application will not be considered for funding if it does any of the following:

• Requests more than the maximum grant amount; or

• Proposes ineligible costs that equal more than 10 percent of total project costs.

We will consider your application for funding if it includes ineligible costs of 10 percent or less of total project costs, as long as it is determined eligible otherwise. However, if your application is successful, those ineligible costs must be removed and replaced with eligible costs, before the Agency will make the grant award, or the amount of the grant award will be reduced accordingly. If we cannot determine the percentage of ineligible costs, your application will not be considered for funding.

V. Application Review Information

A. Application and Scoring Process

The State Offices will review applications to determine if they are eligible for assistance based on requirements in this Notice, and other applicable Federal regulations. If determined eligible, your application will be scored by a panel of USDA employees in accordance with the point allocation specified in this Notice. A recommendation will be submitted to the Administrator to fund applications in highest ranking order. Applications that cannot be fully funded may be offered partial funding at the Agency's discretion.

B. Scoring Criteria

All eligible and complete applications will be evaluated based on the following criteria. Failure to address any one of the following criteria by the application deadline will result in the application being determined ineligible and the application will not be considered for funding. Evaluators will base scores only on the information provided or cross-referenced by page number in each individual evaluation criterion. The total points possible for the criteria are 60.

1. Technical Assistance (maximum score of 15 points). A panel of USDA employees will evaluate your application to determine your ability to assess the needs of Small Socially-Disadvantaged Producers, plan and conduct appropriate and effective Technical Assistance, and identify the expected outcomes of that assistance.

Higher points are awarded if you identify specific needs of the Socially-Disadvantaged Producers to be assisted; clearly explain a logical and detailed plan of assistance for addressing those needs; and discuss realistic outcomes of planned assistance.

2. Experience (maximum score of 15 points). A panel of USDA employees will evaluate your length of experience of identified staff or consultants in providing Technical Assistance, as defined in this Notice. You must describe the specific type of Technical Assistance experience for each identified staff member or consultant, as well as years of experience in providing that assistance. In addition, resumes for each individual staff member or consultant must be included as an attachment, listing their experience for the type of Technical Assistance proposed. The attachments will not count toward the maximum page total. We will compare the described experience to the work plan to determine relevance of the experience. Applications that do not include the attached resumes will not be considered for funding.

Higher points will be awarded if a majority of identified staff or consultants demonstrate 5 or more years of experience in providing relevant Technical Assistance. Maximum points will be awarded if all of the identified staff or consultants demonstrate 5 or more years of experience in providing relevant Technical Assistance.

3. Commitment (maximum of 15 points). A panel of USDA employees will evaluate your commitment to providing Technical Assistance to Small, Socially-Disadvantaged Producers in Rural Areas. You must list the number and location of Small, Socially-Disadvantaged Producers that will directly benefit from the assistance provided. Higher points will be awarded for Projects that benefit at least 50 Small, Socially-Disadvantaged Producers. If you define and describe the underserved and economically distressed areas within your service area, provide statistics, and identify projects within or affecting these areas, as appropriate, you will score higher on this factor.

4. Work Plan/Budget (maximum of 10 points). A panel of USDA employees will evaluate your work plan for detailed actions and an accompanying timetable for implementing the proposal. Clear, logical, realistic, and efficient plans will result in a higher score. Budgets will be reviewed for completeness. You must discuss at a minimum:

a. Specific tasks to be completed using grant funds;

b. How customers will be identified;

c. Key personnel; and

d. The evaluation methods to be used to determine the success of specific tasks and overall project objectives.

5. Local support (maximum of 5 points). A panel of USDA employees will evaluate your application for local support of the Technical Assistance activities. Applicants that demonstrate strong support from potential beneficiaries and other developmental organizations will receive more points than those not showing such support.

(i) 0 points are awarded if you do not address this criterion.

(ii) 1 point is awarded if you provide 2-3 support letters that show support from potential beneficiaries and/or support from local organizations.

(iii) 2 points are awarded if you provide 4-5 support letters that show support from potential beneficiaries and/or support from local organizations.

(iv) 3 points are awarded if you provide 6-7 support letters that show support from potential beneficiaries and/or support from local organizations.

(v) 4 points are awarded if you provide 8-9 support letters that show support from potential beneficiaries and/or support from local organizations.

(vi) 5 points are awarded if you provide 10 support letters that show support from potential beneficiaries and/or support from local organizations.

You may submit a maximum of 10 letters of support. These letters should be included as an attachment to the application and will not count against the maximum page total. Additional letters from industry groups, commodity groups, local and State government, and similar organizations should be referenced, but not included in the application package. When referencing these letters, provide the name of the organization, date of the letter, the nature of the support, and the name and title of the person signing the letter.

VI. Award Administration Information

A. Award Notices

If your application is successful, you will receive notification regarding funding from the State Office where your application is submitted or headquartered if you submit your application via Grants.gov. You must comply with all applicable statutes, regulations, and notice requirements before the grant award will be approved. If your application is not successful, you will receive notification, including mediation and appeal rights by mail. See 7 CFR part 11 for USDA National Appeals Division procedures.

B. Administrative and National Policy Requirements

Additional requirements that apply to grantees selected for this program can be found in 7 CFR part 4284, subpart A, parts 3015, 3019, 3052 and 2 CFR parts 215 and 417. All recipients of Federal financial assistance are required to report information about first-tier subawards and executive compensation (See 2 CFR part 170). You will be required to have the necessary processes and systems in place to comply with the Federal Funding Accountability and Transparency Act reporting requirements (See 2 CFR 170.200(b), unless you are exempt under 2 CFR 170.110(b)). These regulations may be obtained at http://www.gpoaccess.gov/cfr/index.html.

The following additional requirements apply to grantees selected for this program:

• Agency approved Grant Agreement.

• Letter of Conditions.

• Form RD 1940-1, “Request for Obligation of Funds.”

• Form RD 1942-46, “Letter of Intent to Meet Conditions.”

• Form AD-1047, “Certification Regarding Debarment, Suspension, and Other Responsibility Matters-Primary Covered Transactions.”

• Form AD-1048, “Certification Regarding Debarment, Suspension, Ineligibility and Voluntary Exclusion-Lower Tier Covered Transactions.”

• Form AD-1049, “Certification Regarding a Drug-Free Workplace Requirement (Grants).”

• Form AD-3031, “Assurance Regarding Felony Conviction or Tax Delinquent Status for Corporate Applicants.”

• Form RD 400-4, “Assurance Agreement.”

Additional information on these requirements can be found at http://www.rurdev.usda.gov/BCP_SSDPG.html.

VII. Agency Contacts

For general questions about this announcement and for program Technical Assistance, please contact the appropriate State Office as indicated in the ADDRESSES section of this Notice.

VIII. Non-Discrimination Statement

USDA prohibits discrimination against its customers, employees, and applicants for employment on the bases of race, color, national origin, age, disability, sex, gender identify, religion, reprisal, and where applicable, political beliefs, marital status, familial or parental status, sexual orientation, or all or part of an individual's income is derived from any public assistance program, or protected genetic information in employment or in any program or activity conducted or funded by the Department. (Not all prohibited bases will apply to all programs and/or employment activities.)

To File a Program Complaint

If you wish to file a Civil Rights program complaint of discrimination, complete the USDA Program Discrimination Complaint Form (PDF), found online at http://www.ascr.usda.gov/complain_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

Persons With Disabilities

Individuals who are deaf, hard of hearing or have speech disabilities and who wish to file either an EEO or program complaint, please contact USDA through the Federal Relay Service at (800) 877-8339 or (800) 845-6136 (in Spanish).

Persons with disabilities, who wish to file a program complaint, please see information above on how to contact us by mail directly or by email. If you require alternative means of communication for program information (e.g., Braille, large print, audiotape, etc.), please contact USDA's TARGET Center at (202) 720-2600 (voice and TDD).

Dated: June 5, 2013.
Lillian Salerno,
Acting Administrator, Rural Business-Cooperative Service.

[FR Doc. 2013-13867 Filed 6-11-13; 8:45 am]

BILLING CODE 3410-XY-P